DEPARTMENT OF TRANSPORTATION

Federal Transit Administration

[Docket No: FTA-2008-0002]

National Transit Database: Amendments to Urbanized Area Annual Reporting Manual

AGENCY: Federal Transit Administration (FTA), DOT.

ACTION: Notice of Availability of Proposed Amendments to the 2007 National Transit Database Urbanized Area Annual Reporting Manual.

SUMMARY: This notice provides interested parties with the opportunity to comment on changes to the Federal Transit Administration's (FTA) 2008 National Transit Database (NTD) Urbanized Area Annual Reporting Manual (Annual Manual). Pursuant to 49 U.S.C. 5335, FTA requires recipients of FTA Urbanized Area Formula Grants to provide an annual report to the Secretary of Transportation via the NTD reporting system according to a uniform system of accounts (USOA). Other transit agencies in urbanized areas report to the NTD under these requirements on a voluntary basis, for purposes of including data from their transit agencies in the apportionment of Urbanized Area Formula Grants. In an ongoing effort to improve the NTD reporting system and be responsive to the needs of the transit agencies reporting to the NTD, FTA annually refines and clarifies the reporting requirements through revisions to the Annual Manual.

DATES: Comments must be received on or before March 10, 2008. FTA will consider late filed comments to the extent practicable.

ADDRESSES: You may submit comments [identified by DOT Docket ID Number FTA-2008-0002] at the Federal eRulemaking Portal at: http://www.regulations.gov. Follow the online instructions for submitting comments.

Fax: 202-493-2251.

Mail: Docket Management Facility: U.S. Department of Transportation, 1200 New Jersey Avenue, SE., West Building Ground Floor, Room W12-140, Washington, DC 20590-0001.

Hand Delivery or Courier: West Building Ground Floor, Room W12-140, 1200 New Jersey Avenue SE., between 9 a.m. and 5 p.m. ET, Monday through Friday, except Federal holidays.

Instructions: When submitting comments you must use docket number FTA-2008-0002. This will ensure that your comment is placed in the correct docket. If you submit comments by mail, you should submit two copies and include the above docket number. Note that all comments received will be posted, without change, to http://www.regulations.gov including any personal identifying information.

FOR FURTHER INFORMATION CONTACT: For program issues, John D. Giorgis, Office of Budget and Policy, (202) 366-5430 (telephone); (202) 366-7989 (fax); or john.giorgis@dot.gov (e-mail). For legal issues, Richard Wong, Office of the Chief Counsel, (202) 366-0675 (telephone); (202) 366-3809 (fax); or richard.wong@dot.gov (e-mail).

SUPPLEMENTARY INFORMATION:

I. Background

The National Transit Database (NTD) is the Federal Transit Administration's (FTA's) primary database for statistics on the transit industry. Recipients of FTA's Urbanized Area Formula Program (section 5307) and Other Than Urbanized Area Formula Program (section 5311) are required by statute to submit data to the NTD. These data are used to “help meet the needs of... the public for information on which to base public transportation service planning...” (49 U.S.C 5335). Other transit agencies in urbanized areas report to the NTD under these requirements on a voluntary basis, for purposes of including data from their transit agencies in the apportionment of Urbanized Area Formula Grants. FTA details the NTD reporting requirements for urbanized area transit agencies in the NTD Urbanized Area Annual Reporting Manual (Annual Manual).

Currently, over 650 transit agencies in urbanized areas report to the NTD through an Internet-based reporting system. Each year, performance data from these submissions are used to apportion over $4 billion of FTA funds under the Urbanized Area Formula Grants Program. These data are also used in the annual National Transit Summaries and Trends report, the biennial Conditions and Performance Report to Congress, and in meeting FTA's obligations under the Government Performance and Results Act.

In an ongoing effort to improve the NTD Internet reporting system and to be responsive to the needs of the transit agencies reporting to the NTD and the transit community, FTA annually refines and clarifies reporting requirements to the NTD. This notice provides interested parties with the opportunity to comment on changes to FTA's 2008 Annual Manual. For purposes of comparison, the 2007 Annual Manual can be reviewed on the NTD Web site, http://www.ntdprogram.gov.

II. Proposed Changes in the 2008 Annual Manual

Contractual Relationship (B-30) Form

FTA proposes to greatly simplify this form so as to reduce the substantial confusion that this form has caused among reporters in the past. Under FTA's proposal, this form will allow reporters to report three types of relationships: (1) Traditional purchased transportation contracts; (2) taxicab contracts for demand response service; and (3) pass-through relationships. This change responds to the numerous difficulties that reporters have had in the past in reporting their taxicab contracts and pass-through relationships on a form that had been designed for traditional purchased transportation contracts.

For traditional purchased transportation contracts and taxicab contracts the simplified form will make it clear to transit agencies that they are to report: (1) The vehicles and maintenance facilities that may be provided to, or nominally leased to, the seller; (2) the number of months the contract was operated in the past year; (3) the number of vehicles or rail passenger cars operated during maximum service by the seller of service; (4) the fare revenues accrued under the service; (5) whether the fare revenues are retained by the seller, or returned to the purchasing transit agency; (6) the contract administration expenses incurred by the purchasing transit agency; and (7) all other costs incurred by the purchasing agency to support the contract, such as fuel, maintenance, insurance, and marketing costs.

The new option for taxicab contracts will relieve agencies of the requirement to provide detailed asset data on the A-30 form for these services. This will effectively make taxicab a third Type of Service under the NTD.

The new option for pass-through relationships will greatly simplify the reporting of these relationships for transit agencies. A transit agency reporting a pass-through relationship will need to report: (1) The nature of the pass-through (e.g. grant monies or vehicles); (2) contact information for the recipient of the pass-through; and (3) whether the reporting transit agency is including service provided the recipient of the pass-through on the reporting transit agency's NTD report, or if the reporting transit agency is expecting the recipient of the pass-through to provide its own NTD report. In many cases, a transit agency that is a direct recipient of an Urbanized Area Formula Grant passes through the monies provided by the grant or vehicles funded by the grant to some other transit agency. In the past, this has created a great deal of confusion, and this proposal should provide significant clarity to the reporting requirements.

Funds Expended and Earned (F-10) Form

FTA currently requires transit agencies to identify funds earned from various types of dedicated taxes (specifically, income, sales, property, gasoline, and other taxes; as well as regular tolls, high-occupancy tolls, and other dedicated revenues) from various types of sources (each of the above generated from independent political entities, local governments, and state governments, respectively) and to specify how much of each of these were expended on operations and how much of each of these were expended on capital. FTA proposes to eliminate this requirement at the level of individual types of taxes, and to only report the total revenue earned from each type of dedicated tax from each type of source. FTA proposes to only require transit agencies to separate funds earned and spent on operations from funds earned and spent on capital in the context of fare revenues, total directly-generated revenues (e.g. parking and advertising revenues), contributed services (e.g. services provided directly by another government body), the various sources of Federal funds, total state government revenues, total local government revenues, and total revenues from independent political entities.

Additionally, FTA proposes to simplify this form by only making the option to report revenue from independent political entities available to those transit agencies that qualify as such entities, by virtue of having their own tax-raising authority.

Bonds and Loans

FTA proposes to eliminate the requirement to report Bond and Loan payments separately for each category of funding. Instead, FTA proposes simplified bond and loan reporting that would require transit agencies to report: (1) Year-beginning principal outstanding; (2) new bonds and loans (new principal); (3) total interest paid; (4) total principal repaid; and (5) total year-end principal outstanding.

Uses of Capital (F-20) Form

FTA proposes to reduce the reporting requirements by no longer requiring transit agencies to separately report capital spending on Fare Revenue Collection Equipment and Communication and Information Systems. FTA proposes to replace these two categories with a single category for reporting capital expenditures on Intelligent Transportation Systems (ITS.)

Operating Expenses (F-30) Form

FTA proposes to reduce the reporting requirements by combining separate reporting for Fuels and Lubricants and for Tires and Lubes into reporting for a single category of Fuels and Lubes. Additionally, FTA proposes to combine separate reporting for Taxes and for Miscellaneous Expenses into a single category for Miscellaneous Expenses. FTA proposes these changes to reduce the reporting burden of the NTD.

Additionally, FTA proposes to simplify this form by limiting the operating functions for which a number of object classes can be reported. Specifically, FTA proposes to make the following changes for reporting of directly operated services: (1) Eliminate reporting of the Fuels and Lubes object classes under the Non-Vehicle Maintenance and General Administration operating functions; (2) eliminate reporting of the Utilities object class under the Non-Vehicle Maintenance operating function; (3) only permit the Casualty and Liability and Miscellaneous Expenses object classes to be reported under the General Administration operating function.

Operating Expenses Summary (F-40) Form

FTA proposes to eliminate collecting Funds Not Applied, Depreciation, and Amortization of Intangibles. The NTD does not collect intangible assets, so these data are not necessary.

FTA proposes to stop collecting Interest Expenses, as this information will now be collected with other information relating to bonds and loans, as described in this Notice.

FTA proposes to stop collecting information on lease agreements on this form. Leases should already be collected as part of the cost of purchased transportation.

FTA proposes to continue collecting information on reconciling items on this form, but will require an explanation of all reconciling items.

Operator's Wages (F-50) Form

FTA proposes to discontinue this form. FTA already collects data on employees, and employee hours on the R-10 Form, and FTA already collects data on employees' pay and benefits on the F-10 Form. Discontinuing this form will mean that FTA will no longer collect the hours and expenditures on employees based on Platform Time, Straight Time Allowance, Premium Time, and Non-Operating Work Time. FTA is proposing this change to reduce the reporting burden of the NTD.

Service (S-10) Form

For Motorbus and Trolleybus services, FTA proposes to change the categories currently labeled Total Actual Hours and Total Actual Miles. These categories have caused a great deal of confusion in the past, as despite their names, transit agencies were to report on these lines only Revenue Hours and Miles plus Deadhead Hours and Miles; all other hours and miles were to be excluded. FTA proposes to make reporting much more intuitive by replacing these categories with Deadhead Hours and Deadhead Miles. Transit agencies will be required to report actual deadhead hours and miles in these categories. Additionally, FTA proposes to eliminate the reporting of Charter Service Hours and of School Bus Hours. Transit agencies should not be conducting school bus service, transit agencies that do so are not eligible to report to the NTD. Charter service among transit agencies is intended to be very small, and is to be reported to FTA's Charter Registration Web site, in accordance with 49 CFR Part 604. Instead, FTA will simplify reporting by adding new categories for Other Hours and Other Miles. Transit agencies should report miles and hours for maintenance, training, charter service, and any other non-revenue and non-deadhead service on these lines. For reference, FTA proposes to add an automatically-calculated line to the form that will show transit agencies the total hours and miles being reported.

For rail service, FTA proposes to make similar changes: (1) Changing Total Train Hours and Total Train Miles to Deadhead Train Hours and Deadhead Train Miles; (2) changing Total Passenger Car Hours and Total Passenger Car Miles to Deadhead Passenger Car Hours and Deadhead Passenger Car Miles; (3) adding lines for Other Train Hours and Other Train Miles; (4) adding lines for Other Passenger Car Hours and Other Passenger Car Miles; and (5) adding automatically-calculated reference lines for Total Train Hours, Total Train Miles, Total Passenger Car Hours, and Total Passenger Car Miles.

For demand response service, FTA proposes similar changes for directly operated and purchased transportation services: (1) Changing Total Actual Vehicle Hours and Total Actual Vehicle Miles to Deadhead Hours and Deadhead Miles; (2) eliminating Charter Service Hours and School Bus Hours; (3) adding Other Vehicle Hours and Other Vehicle Miles; and (4) adding automatically-calculated reference lines for Total Vehicle Hours and Total Vehicle Miles. Additionally, FTA proposes to institute simplified reporting for demand response services provided through taxicabs. This simplified report would not require the reporting of Deadhead Hours, Deadhead Miles, Other Hours, and Other Miles.

For vanpool service, FTA proposes similar changes: (1) Eliminating Charter Service Hours and School Bus Hours; (2) adding Other Vehicle Hours and Other Vehicle Miles; and (3) adding automatically-calculated reference lines for Total Vehicle Hours and Total Vehicle Miles. FTA also proposes to eliminate collecting information on deadhead for vanpool services, as vanpools do not have deadhead, except in rare circumstances where the vanpool has an employee driver. In these rare cases, deadhead miles and hours would be reported under Other Hours and Other Miles. FTA also proposes to stop collecting Time Service Begins and Time Service Ends for vanpool services.

For jitney and público services, FTA proposes similar changes: (1) Eliminating Charter Service Hours and School Bus Hours; (2) adding Other Vehicle Hours and Other Vehicle Miles; and (3) adding automatically-calculated reference lines for Total Vehicle Hours and Total Vehicle Miles. FTA also proposes to stop collecting information on deadhead for jitney and público, as the nature of these services being run by owner-operated vehicles makes collecting deadhead information overly burdensome. FTA proposes to reduce reporting burden for these services by simply collecting hours and miles as being either Revenue Hours and Miles or as Other Hours and Miles.

FTA proposes similar changes for ferryboat and aerial tramway services: (1) Changing Total Actual Vehicle Hours and Total Actual Vehicle Miles to Deadhead Hours and Deadhead Miles; (2) eliminating Charter Service Hours; (3) adding Other Vehicle Hours and Other Vehicle Miles; and (4) adding automatically-calculated reference lines for Total Vehicle Hours and Total Vehicle Miles. Additionally, FTA proposes to drop to reporting of peak data on service times and vehicles in operation for these services.

For heavy rail, light rail, and commuter rail systems, in 2007 FTA introduced a requirement for these systems agencies to report Average Weekday Unlinked Passenger Trips and Actual Passenger Car Revenue Miles by four time categories: Weekday a.m. Peak, Weekday Midday, Weekday p.m. Peak and Weekday Other. FTA proposes to exempt rail systems with 9 or fewer rail vehicles operated in maximum services from this requirement, so as to reduce the reporting burden on these small systems.

Employee Resources (R-10) Form

FTA proposes to add reporting of Paid Non-Work Hours to this form. This data was previously reported on the F-50 Form, which is being dropped.

Maintenance Performance (R-20) Form

FTA proposes to drop the reporting requirement for Total Labor Hours for Inspection and Maintenance. This information is already reported in the R-10 Form.

FTA also proposes to require that this form be completed by transit agencies for purchased transportation service (it is currently only required for directly operated services). These data would produce a clear picture of the role of maintenance breakdowns in transit service.

Energy Consumption (R-30) Form

FTA proposes to drop the lines on this form for certain rarely-used fuels, specifically, Methanol, Bunker Fuel, and Grain Additive. These fuels will still be reportable under the Other Fuels category.

FTA also proposes to require that this form be completed for purchased transportation services (it is currently only required for directly operated services). These data would support the significant public interest in the fuel needs and emissions of transit services.

Stations and Maintenance Facilities (A-10) Form

FTA proposes to expand some of the reporting requirements for stations. Currently, FTA requires transit agencies to only report how many of their stations are multi-modal. FTA proposes to begin requiring transit agencies to specify the nature of the multi-modal services at each station. Transit agencies will be able to group together similar stations, as is done for asset reporting on revenue vehicles. For example, a transit agency will be able to report that it has 10 stations that are multi-modal with light rail and motorbus service. In addition to reporting the transit modes providing service at each station, FTA proposes to have transit agencies indicate if the transit station has Intercity Bus, Amtrak, Airport, Seaport, Car Rental, Bicycle Rental, or Parking Lot facilities.

For motorbus, trolleybus, and light rail service, FTA proposes to ask transit agencies to report how many stops and how many shelters that they have. Previously, FTA only collected the number of enclosed stations for each mode, which understated the number of transit stations for these services.

Both of these data collections will assist FTA in assessing the scope and needs of the Nation's transit systems for the biennial Conditions and Performance Report to Congress.

Transit Way Mileage (A-20) Form

FTA proposes to merge this Form with the Fixed Guideway Segments (S-20) Form, to reduce reporting burden. For each segment of rail fixed guideway reported on the S-20 form, FTA proposes to have transit agencies report the construction-type of the segment (e.g. exclusive guideway at-grade, at-grade with crossings, non-exclusive at-grade, open-cut, elevated on fill, elevated structure, and subway) and the number of grade crossings for the segment. For each segment of non-rail fixed guideway reported on the S-20 form, FTA proposes to have transit agencies report whether the segment is exclusive right-of-way or controlled-access right-of-way. This change will simplify the reporting requirements, reduce the large number of reporting errors made on the A-20 form, and reduce the number of forms FTA requires of its reporters.

Revenue Vehicle Inventory (A-30) Form

FTA proposes to simply collect whether the vehicles are compliant with the Americans with Disabilities Act (ADA Accessible), and to not separately collect those vehicles that are ADA Accessible by virtue of having lifts and those that are ADA Accessible by virtue of having ramps or low floors.

FTA also proposes to stop collecting Total Miles on Active Vehicles During this Time Period. This information is infrequently used and is duplicative of information on total miles collected on the S-10 Form. Additionally, since the A-10 form only collects information on vehicles that are active at the end of a transit agency's fiscal year, this information cannot be used as a measure of total miles from the previous year. FTA is retaining collection of Average Lifetime Miles per Active Vehicle as a measure of asset condition and age.

Federal Funding Allocation (FFA-10) Form

FTA proposes to make this form required for all transit agencies serving more than one urbanized area, or an urbanized area and a non-urbanized area. This form is currently required only for transit agencies serving an urbanized area over 200,000 in population and either a non-urbanized area or another urbanized area. This form is used to allocate service data from transit agencies across the various urbanized areas (and any non-urbanized areas) served by the transit agency for purposes of apportioning Urbanized Area Formula Grants. With the passage of the Safe, Accountable, Flexible, Efficient, Transportation Equity Act: A Legacy for Users (SAFETEA-LU), the Urbanized Area Formula Grant formula was amended to include grants for Small Transit-Intensive Cities (STIC Grants.) Prior to SAFETEA-LU service data was only used to apportion Urbanized Area Formula Grants to urbanized areas over 200,000 in population. The STIC Grants, however, use service data to apportion grants to urbanized areas under 200,000 in population. Therefore, FTA must require the FFA-10 form from transit agencies in small urbanized areas, in order to ensure to support the accurate apportionment of STIC Grants.

Issued in Washington, DC, this 1st day of February 2008.
James S. Simpson,
Administrator.

[FR Doc. E8-2163 Filed 2-6-08; 8:45 am]

BILLING CODE 4910-57-P